DEPARTMENT OF THE INTERIOR

Bureau of Land Management

[CA-680-1430-ES; CA-45985]

Notice of Realty Action; Recreation and Public Purposes Act (R&PP) Classification; California

AGENCY: Bureau of Land Management, Interior.

ACTION: Notice of Realty Action.

SUMMARY: The Bureau of Land Management (BLM) has examined and found suitable for classification for lease and conveyance under the provisions of the Recreation and Public Purposes Act (R&PP), as amended (43 U.S.C. 869 et seq.), approximately 5 acres of public land in San Bernardino County, California. The Hesperia Recreation and Parks District, a local government entity has filed an application to lease with the request for conveyance of the above described public land for a public sports complex to include access roads, a nature trail and parking lot enclosed within a chain link fence, as specified in the District's development plan (henceforth, sports complex). The Hesperia Recreation and Parks District proposes to use the land in conjunction with adjacent non-Federal lands purchased by the District, for the establishment of a 24 acre public sports complex. The public land will be leased during the development stages. Upon substantial compliance with approval plans of development and management, the land will be conveyed.

DATES: For a period until August 10, 2007, interested parties may submit comments to the Field Manager, BLM Barstow Field Office, at the address below.

ADDRESSES: Bureau of Land Management, Barstow Field Office, 2601 Barstow Road, Barstow, California 92311.

FOR FURTHER INFORMATION CONTACT: Joan Patrovsky, Realty Specialist, BLM Barstow Field Office, (760) 252-6032.

SUPPLEMENTARY INFORMATION: The Hesperia Recreation and Parks District filed an R&PP application for the lease and subsequent conveyance of the following described 5 acres of public land to be developed and utilized for a public sports complex:

San Bernardino Base Meridian, California

T. 4 N., R. 5 W.

Sec. 13, N½SW¼SW¼NW¼.

The area described contains 5 acres, more or less, in San Bernardino County.

Leasing and subsequent conveyance of the land to the Hesperia Recreation and Parks District is consistent with current Bureau planning for this area and would be in the public interest. The land is not needed for any Federal purpose. The lease would be issued for a term of 5 years to allow sufficient time to develop and complete the parking lot, nature trail, interpretative signs, and enclosure fencing around the complex area. The land would be conveyed after recreational development activities have been completed. The lease and subsequent patent, if issued, will be subject to the provisions of the R&PP Act and applicable regulations of the Secretary of the Interior, and will be subject to the following terms, conditions, and reservations:

1. A right-of-way thereon for ditches or canals constructed by the authority of the United States pursuant to the Act of August 30, 1890 (43 U.S.C. 945).

2. All minerals shall be reserved to the United States, together with the right to prospect for, mine, and remove the minerals under applicable laws and such regulations as the Secretary of the Interior may prescribe. And will be subject to:

3. Those rights for an electric transmission line granted by right-of-way R 01725 to Southern California Edison Company.

4. Those rights for an electric transmission line granted by right-of-way R 06740 to Southern California Edison Company.

5. Those rights for an electric transmission line granted by right-of-way R 04180 to Southern California Edison Company.

6. Those rights for an electric transmission line granted by right-of-way CACA 21596 to Southern California Edison Company.

7. Any other valid rights-of-way that may exist at the time of lease or conveyance.

8. Provisions of the R&PP Act and all applicable regulations of the Secretary of the Interior.

9. The lessee or patentee, its successors or assigns, by accepting a lease or patent, agrees to indemnify, defend, and hold the United States, its officers, agents, representatives, and employees (hereinafter “United States”) harmless from any costs, damages, claims, causes of action, penalties, fines, liabilities, and judgments of any kind or nature arising out of or in connection with the lessee's or patentee's use, occupancy, or operations on the leased/patented real property. This indemnification and hold harmless agreement includes, but is not limited to, acts or omissions of the lessee or patentee and its employees, agents, contractors, lessees, or any third-party arising out of or in connection with the lessee's or patentee's use, occupancy, or operations on the leased or patented real property which cause or give rise to, in whole or in part: (1) Violations of Federal, state, and local laws and regulations that are now, or may in future become, applicable to the real property and/or applicable to the use, occupancy, and/or operations thereon; (2) Judgments, claims, or demands of any kind assessed against the United States; (3) Costs, expenses, or damages of any kind incurred by the United States; (4) Releases or threatened releases of solid or hazardous waste(s) and/or hazardous substance(s); pollutant(s), or contaminant(s), and/or petroleum product or derivative of a petroleum product, as defined by Federal and State environmental laws, off, on, into, or under land, property, and other interests of the United States; (5) Other activities by which solid or hazardous substance(s) or waste(s), pollutant(s), or contaminant(s), or petroleum product or derivative of a petroleum product as defined by Federal and State environmental laws, are generated, stored, used, or otherwise disposed of on the leased or patented real property, and any cleanup response, remedial action, or other actions related in any manner to the said solid or hazardous substance(s) or waste(s), pollutant(s), or contaminant(s), or petroleum product or derivative of a petroleum product; (6) Natural resource damages as defined by Federal and State laws. Lessee or Patentee shall stipulate that it will be solely responsible for compliance with all applicable Federal, State, and local environmental laws and regulatory provisions throughout the life of the facility, including any closure and/or post-closure requirements that may be imposed with respect to any physical plant and/or facility upon the real property under any Federal, State, or local environmental laws or regulatory provisions. In the case of a patent being issued, this covenant shall be construed as running with the patented real property and may be enforced by the United States in a court of competent jurisdiction.

10. Terms, covenants and conditions identified through the applicable environmental analysis or that the authorized officer determines appropriate to ensure public access and the proper use and management of the realty. Upon publication of this notice in the Federal Register, the public lands described above are segregated from all forms of appropriation under the public land laws, including the general mining laws and leasing under the mineral leasing laws, except for lease or conveyance under the Recreation and Public Purposes Act. Interested parties may submit comments regarding the proposed lease or conveyance or classification of the lands for a period of 45 days from the date of publication of this notice in the Federal Register.

Classification Comments: Interested parties may submit comments involving the suitability of the land for a sports complex. Comments on the classification are restricted to whether the land is physically suited for the proposal or any other issues that would be pertinent to the environmental (National Environmental Policy Act of 1969) analysis for this action, whether the use will maximize the future use or uses of the land, whether the use is consistent with local planning and zoning, or if the use is consistent with State and Federal programs.

Application Comments: Interested parties may submit comments regarding the specific use proposed in the application and plan of development, whether the BLM followed proper administrative procedures in reaching its classification decision, or any other factor not directly related to the suitability of the land for R&PP use as a public sports complex.

Before including your address, phone number, e-mail address, or other personal identifying information in your comment, you should be aware that your entire comment—including your personal identifying information—may be made publicly available at any time. While you can ask us in your comment to withhold your personal identifying information from public review, we cannot guarantee that we will be able to do so.

In the absence of any adverse comments, the classification of the land described in this notice will become effective 60 days from the date of publication in the Federal Register. The lands will not be available for lease/conveyance until after the classification becomes effective.

(Authority: 43 CFR 2741.5)

Dated: April 4, 2007.
J. Anthony Danna,
Deputy State Director, Natural Resources (CA-930).

[FR Doc. 07-3136 Filed 6-25-07; 8:45 am]

BILLING CODE 4310-40-M